FEDERAL COMMUNICATIONS COMMISSION

[FR ID: 185258]

Privacy Act of 1974; System of Records

AGENCY: Federal Communications Commission.

ACTION: Notice of a modified system of records.

SUMMARY: The Federal Communication Commission (FCC or Commission, or the Agency) proposes to modify an existing system of records, FCC/OMD-25, Financial Operations Information System (FOIS), subject to the Privacy Act of 1974 (5 U.S.C. 552a) as amended. This action is necessary to meet the requirements of the Privacy Act to publish in the Federal Register notice of the existence and character of records maintained by the agency. The records in this system pertain to the mission and activities of the FCC's Financial Operations (FO) organization in the Office of Managing Director (OMD), which are associated with the Commission's financial and budgetary operations, programs, activities, and transactions. This modification makes various necessary changes and updates, including slightly renaming the system to reflect the fact that the system of records covers multiple systems and applications, clerical and clarity edits, formatting changes required by the Office of Management and Budget (OMB) Circular A-108 since its previous publication, the addition of one new routine use, the deletion of two routine uses, and the revision of multiple existing routine uses.

DATES: This modified system of records will become effective on November 22, 2023. Written comments on the routine uses are due by December 22, 2023. The routine uses in this action will become effective on December 22, 2023 unless comments are received that require a contrary determination.

ADDRESSES: Send comments to Katherine C. Clark, Attorney-Advisor, Office of General Counsel, Federal Communications Commission, 45 L Street NE, Washington, DC 20554, or to privacy@fcc.gov.

FOR FURTHER INFORMATION CONTACT: Katherine C. Clark, (202) 418-1773, or privacy@fcc.gov (and to obtain a copy of the Narrative Statement and the Supplementary Document, which includes details of the modifications to this system of records).

SUPPLEMENTARY INFORMATION: As required by the Privacy Act of 1974, as amended, 5 U.S.C. 552a(e)(4) and (e)(11), this document sets forth notice of the proposed modification of a system of records maintained by the FCC. The FCC previously provided notice of the system of records FCC/OMD-25, Financial Operations Information System (FOIS), by publication in the Federal Register on October 6, 2016 (81 FR 69522). This notice serves to update and modify FCC/OMD-25 as a result of various necessary changes and updates. The substantive changes and modifications to the previously published version of the FCC/OMD-25 system of records include:

1. Updating the name of the system of records to Financial Operations Information Systems (FOIS), to reflect that this system of records covers multiple systems and applications;

2. Updating the language in the Security Classification to follow OMB guidance;

3. Updating the Purposes section for clarity and to reflect modernization of the CORES system to incorporate functionalities that were previously provided through separate systems and forms;

4. Modifying the language in the Categories of Individuals and Categories of Records to be consistent with the language and phrasing now used in FCC SORNs;

5. Deleting two routine uses (listed by former routine use number): (7) “Do Not Pay” System, which has been consolidated into modified Routine Use (6) Financial Obligations Under the Debt Collection Acts; and (4) Audits and Oversight, for which disclosures are covered under another exception to the Privacy Act;

6. Updating and/or revising language in the following routine uses (listed by the routine use number provided in this notice): (1) Public Access; (2) Drug Debarment List; (5) Financial Obligations Under the Debt Collection Acts and Do Not Pay; (6) Financial Obligations as Required by the National Finance Center (USDA), et al.; (7) Litigation and (8) Adjudication (formerly a single routine use); (9) Law Enforcement and Investigation; (10) Congressional Inquiries; (11) Government-wide Program Management and Oversight; (18) Statistical/Analytical Studies; (19) Breach Notification, the revision of which is as required by OMB Memorandum No. M-17-12; and (21) Non-Federal Personnel;

7. Adding one new routine use: (20) Assistance to Federal Agencies and Entities Related to Breaches, the addition of which is required by OMB Memorandum No. M-17-12; and

8. Updating the existing records retention and disposal schedule with a new records schedule: N1-173-00-001, Commission Registration System (CORES).

The system of records is also revised for clarity and updated to reflect various administrative changes related to the system managers and system addresses; policies and practices for storage and retrieval of the information; administrative, technical, and physical safeguards; and updated notification, records access, and contesting records procedures.

SYSTEM NAME AND NUMBER:

FCC/OMD-25, Financial Operations Information Systems (FOIS).

SECURITY CLASSIFICATION:

No information in the system is classified.

SYSTEM LOCATION:

Financial Operations (FO), Office of Managing Director (OMD), Federal Communications Commission (FCC), 45 L Street NE, Washington, DC 20554.

SYSTEM MANAGER(S):

Financial Operations (FO), Office of Managing Director (OMD), Federal Communications Commission (FCC), 45 L Street NE, Washington, DC 20554.

AUTHORITY FOR MAINTENANCE OF THE SYSTEM:

5 U.S.C. chapter 57; 31 U.S.C. 525, 3302(e); 44 U.S.C. 3101, 3102, 3309; Debt Collection Act of 1982 (Pub. L. 97-365), as amended by Debt Collection Improvement Act of 1996 (Pub. L. 104-134); section 639 of the Consolidated Appropriations Act of 2005 (Pub. L. 108-447); Federal Financial Management Improvement Act of 1996 (Pub. L. 104-208); Chief Financial Officers Act of 1990 (Pub. L. 101-576); Federal Managers Financial Integrity Act of 1982 (Pub. L. 97-255); Executive Order 9397; Budget and Accounting Procedures Act of 1950 (Pub. L. 81-784); section 5301 of the Anti-Drug Abuse Act of 1988 (Pub. L. 100-690), as amended by section 1002(d) of the Crime Control Act of 1990 (Pub. L. 100-647); and 47 U.S.C. 154(i) and (j).

PURPOSE(S) OF THE SYSTEM:

This system collects and maintains records contained in the information systems, subsystems, databases, and paper document files of the Financial Operations organization (FO) within OMD.¹ Collecting and maintaining this information allows staff access to documents necessary for key activities discussed in this SORN, including maintaining identity, regulatory, and financial information regarding individuals and entities doing business with the Commission, as well as information regarding the Commission's financial and budgetary operations, programs, functions, and transactions. These various systems include, but are not limited to FCC User Registration System, Commission Registration System (CORES), Financial Operations API, Financial Operations API Cloud, the Financial Operations Administration System, Genesis and related applications (i.e., Genesis Portal, Genesis E2 WSDL, Genesis E2, and Genesis Reports), Alfresco, databases, and related FO documents and forms. Authorized FCC personnel (including authorized contract employees) use these records on a need-to-know basis to conduct the Commission financial and budgetary operations, programs, transactions, and statements, which include but are not limited to:

¹ The FO specifically maintains the FCC's Registration Number (FRN) system, the Commission-wide method for identifying and interacting with those individuals who have registered to do business with the FCC under 31 U.S.C. 7701(c)(2) and who incur application and/or regulatory fee obligations. An FRN collaterally allows that monies paid are properly matched with debts and obligations.

1. Processing and tracking payments made and monies owed from or to individuals (including FCC employees and authorized contract employees), FCC regulatees and licensees, and the FCC, and to ensure that payments by the FCC are based on a lawful official commitment and obligation of government funds, including but not limited to payments to cover administrative charges, penalties, forfeitures assessed, fees collected, services rendered, and direct loans;

2. Establishing records of “receivables” and tracking repayment status for any amount(s) claimed in the event of a debt owed to the FCC, which include but are not limited to repayment of overpayments and excess disbursements (including reimbursements and/or refunds for incorrect payments or overpayments), and other debts, advance payments, including but not limited to application processing fees, travel advances (including reimbursements authorized under the Travel Reimbursement Program covered by GSA/GOVT-3 and GSA/GOVT-4), advanced sick leave, and advanced annual leave, and withholding services from individuals who owe delinquent debt to the FCC or an FCC component, including billing and collection of bad checks;

3. Developing reports of taxable income using the records of payments and uncollectible debts that are provided to the Internal Revenue Service (IRS) and applicable State and local taxing officials;

4. Tracking overdue and delinquent federal debts for debt collection purposes;

5. Initiating and completing computer matching to verify benefit and payment eligibility under relevant related Federal Government systems such as, but not limited to Treasury's “Do Not Pay” portal verification system, the GSA Excluded Parties and Debarment List, and the Department of Justice Drug Debarment Roster in connection with implementation of section 5301 of the Anti-Drug Abuse Act of 1998;

6. Populating FCC forms, which include but are not limited to Forms 44 and 45, 159 series, 160 and 161, and 1064, and other financial and budgetary forms and related documents and records, which are used to carry out these various financial, accounting, and budgetary activities, functions, and purposes;

7. Providing the viewing function for images of auction loans that the FCC has made to customers, to provide them access to their loan payment history (retained for historical purposes); and

8. Storing the information that the Department of Justice (DOJ) exchanges with the FCC in connection with the implementation of section 5301 of the Anti-Drug Abuse Act of 1988.²

² This permits the FCC to perform the General Services Administration (GSA) Debarment List check as provided for in the Office of National Drug Control Policy plan for implementation of section 5301 through use of information generated by DOJ. The FCC will use the automated records obtained from DOJ only to make an initial determination of whether an individual applicant is subject to a denial of all Federal benefits or FCC benefits imposed under section 5301 of the Anti-Drug Abuse Act of 1988.

CATEGORIES OF INDIVIDUALS COVERED BY THE SYSTEM:

1. FCC staff, including but not limited to employees (including interns), and contractors and vendors, who handle information in the FCC's financial and budgetary operations, which include but are not limited to FO's programs, processes, activities, and functions;

2. Individuals and representatives of entities who register with the FCC to receive a FCC Registration Number (FRN) to conduct business with the Commission; and

3. Individuals who intend to or do conduct business with the FCC as a regulatee, licensee, contractor, or vendor and who are listed on the Drug Debarment Roster (as a result of drug convictions for the distribution or possession of controlled substances) who have been denied all Federal benefits as part of their sentence pursuant to section 5301 of the Anti- Drug Abuse Act of 1988, and who have filed application(s) for any FCC professional or commercial license(s) and/or authorization(s).

CATEGORIES OF RECORDS IN THE SYSTEM:

1. FCC employees (including interns)—individual's name, Social Security Number (SSN), home address, phone number, bank account data, and miscellaneous monies received by the Commission (including, but not limited to reimbursement(s) authorized under the Travel Reimbursement Program covered by the government-wide system of records GSA/GOVT-3 and GSA/GOVT-4,³ and related financial requirements);

³ The PII contained in the FCC's Travel and Reimbursement Program is covered by one or the other of the two government-wide systems of records maintained by the General Services Administration (GSA): GSA/GOV-3, “Travel Charge Card Program,” 78 FR 20108; or GSA/GOVT-4, “Contracted Travel Services Program,” 64 FR 20108.

2. Independent contractors—individual's name and Social Security Number (SSN) (required when the fee exceeds the minimum $600.00 threshold authorized by IRS Form 1099);

3. Individuals and representatives of entities who register to do business with the FCC and receive a FCC Registration Number (FRN)—individual's name, address(es), Social Security Number (SSN), Individual Taxpayer Identification Number (ITIN), telephone number(s), fax number(s), email address(es), records of services rendered, loan payment information, forfeitures assessed and collected, billing and collection of bad checks, bank deposit information, transaction type information, United States Treasury deposit data (notification of completion of FCC financial transactions with the US Treasury), and information substantiating fees collected, refunds issues, and interest, penalties, and administrative charges assessed to individuals.

4. Individuals on the DOJ's Drug Debarment List—individual's name, DOJ identification number (ID) (for the person denied Federal benefits), Individual Taxpayer Identification Number (ITIN), starting and ending date of the denial of Federal benefits, address, zip code, and (if required by the FCC application) birthdate, and confirmation report for DOJ matching; (Upon such a match, the FCC will initiate correspondence with the applicant, which will also be associated with the application. The confirmation report and any correspondence with the applicant will be among the records found in this system.); and

5. FCC Forms which include, but are not limited to, Forms 44 and 45; 159 series; 160 and 161; 1064, and other related financial and/or budgetary forms, assessments, and related documents.

RECORD SOURCE CATEGORIES:

Information in this system is provided by the following individuals: FCC employees (including interns), contractor employees, and individuals or representatives of entities who register to do business with the FCC, and the information obtained from the Federal Drug Debarment List database(s).

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3). In each of these cases, however, the FCC will determine whether disclosure of the records is compatible with the purpose(s) for which the records were collected:

1. Public Access—FCC Registration Numbers (FRNs) and certain information (excluding security/sensitive information) provided by individuals and representatives who register to do business with the Commission by obtaining an FRN are routinely made public. Individuals who have so registered also can use the Commission's automated reporting tools to access their own nonpublic information, which includes but is not limited to Regulatory Fees, fines, forfeitures, penalties, Debt Collection Improvement Act and other administrative changes, and related payments and assessments, and to determine the amount(s) owed.

2. Drug Debarment List—Records from CORES may be matched against the Department of Justice Drug Debarment List, and any results (not including the DOJ ID Number) and any correspondence with the applicant regarding this match will be associated with the FCC applicant for a license or authorization or recipient of FCC funds, and thus, be made routinely available (with redactions for date of birth and Social Security Number) for public inspection as part of the applicant's or recipient's file within the relevant FCC system.

3. “Pay.gov” System—To disclose the name and address of individuals to the Department of the Treasury to facilitate the collection of any fees owed to the FCC when an individual chooses to pay online using the Treasury's Pay.gov system.

4. Compliance with Welfare Reform Requirements—Names, Social Security Numbers, home addresses, dates of birth, dates of hire, quarterly earnings, employer identifying information, and State of hire of employees may be disclosed to the Office of Child Support Enforcement, Administration for Children and Families, Department of Health and Human Services for the purposes of locating individuals to establish paternity, establishing and modifying orders of child support, identifying sources of income, and for other child support enforcement actions as required by the Personal Responsibility and Work Opportunity Reconciliation Act.

5. Financial Obligations Under the Debt Collection Acts and “Do Not Pay”—To other Federal agencies (including the Treasury Department, Bureau of Public Debt, and its authorized contractors) for the purpose of collecting and reporting on delinquent debts as authorized by the Debt Collection Improvement Act of 1996, as amended, and to prevent improper payment and to verify payment eligibility using Treasury's “Do Not Pay” (DNP) system and effecting payments. Records may also be disclosed to the Treasury Department and its contractors, pursuant to a DNP computer matching agreement between the FCC and Treasury for purposes authorized by 31 U.S.C. 3321, if the matching program requires data from this system of records, and to the Treasury Department and the Department of Justice, and their representatives and contractors, to report the results of debt collection or debt compromise to prepare necessary Federal, State, or local income and tax reporting records and reports (e.g., IRS Form 1099). A record from this system also may be disclosed to any Federal, State, Tribal, or local agency to conduct an authorized computer matching program to identify and locate individuals who are delinquent in their repayment of certain debts owed to the U.S. Government. A record from this system may be used to prepare information on items included, but not limited to, income assessments required for taxation or other purposes to be disclosed to Federal (i.e., IRS), State, and local governments.

6. Financial Obligations as Required by the National Finance Center (USDA), et al.—To the National Finance Center (the FCC's authorized payroll office), the Department of the Treasury Debt Management Services, and/or a current employer for financial obligations that include, but are not limited to those that effect a salary, IRS tax refund, tax or other debt liabilities of State, Municipality or other government agencies and entities, or administrative offsets necessary to satisfy an indebtedness; and to Federal agencies to identify and locate former employees for the purposes of collecting such indebtedness, including through administrative, salary, or tax refund offsets. Identifying and locating former employees, and the subsequent referral to such agencies for offset purposes, may be accomplished through authorized computer matching programs, following procedures required by the Debt Collection Act of 1982, the Debt Collection Improvement Act of 1996, and the computer matching provisions of the Privacy Act.

7. Litigation—To disclose records to DOJ when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the DOJ is for a purpose that is compatible with the purpose for which the FCC collected the records.

8. Adjudication—To disclose records in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

9. Law Enforcement and Investigation—Where the FCC becomes aware of an indication of a violation or potential violation of civil or criminal law, rule, regulation, or order to disclose pertinent information to appropriate Federal, State, Tribal, local, international, or multinational agencies, or a component of such an agency, responsible for investigating, prosecuting, enforcing, or implementing a statute, rule, regulation, or order.

10. Congressional Inquiries—To provide information to a Congressional office from the record of an individual in response to an inquiry from that Congressional office made at the written request of that individual.

11. Government-wide Program Management and Oversight—To the DOJ to obtain that department's advice regarding disclosure obligations under FOIA; or to OMB to obtain that office's advice regarding obligations under the Privacy Act.

12. Employment, Clearances, Licensing, Contract, Grant, or other Benefits Decisions by the Agency—To a Federal, State, local, foreign, Tribal, or other public agency or authority maintaining civil, criminal, or other relevant enforcement records, or other pertinent records, or to another public authority or professional organization, if necessary to obtain information relevant to an investigation concerning the hiring or retention of an employee or other personnel action, the issuance or retention of a security clearance, the classifying of jobs, the letting of a contract, or the issuance or retention of a license, grant, or other benefit by the requesting agency, to the extent that the information is relevant and necessary to the requesting agency's decisions on the matter.

13. Employment, Clearances, Licensing, Contract, Grant, or other Benefits Decisions by Other than the Agency—To a Federal, State, local, foreign, Tribal, or other public agency or authority of the fact that this system of records contains information relevant to the hiring or retention of an employee, the issuance or retention of a security clearance, the conducting of a suitability or security investigation of an individual, the classifying of jobs, the letting of a contract, or the issuance or retention of a license, grant, or other benefit by the requesting agency, to the extent that the information is relevant and necessary to the agency's decision on the matter. The other agency or licensing organization may then make a request supported by the written consent of the individual for the entire records if it so chooses. No disclosure will be made unless the information has been determined to be sufficiently reliable to support a referral to another office within the agency or to another Federal agency for criminal, civil, administrative, personnel, or regulatory action.

14. Labor Relations—To officials of labor organizations recognized under 5 U.S.C. Chapter 71 upon receipt of a formal request and in accord with the conditions of 5 U.S.C. 7114 when relevant and necessary to their duties of exclusive representation concerning personnel policies, practices, and matters affecting working conditions.

15. Federal Labor Relations Authority—To disclose information to the Federal Labor Relations Authority when requested in connection with investigations of allegations of unfair labor practices or matters before the Federal Service Impasses Panel (FSIP).

16. Merit Systems Protection Board—To disclose information to officials of the Merit Systems Protection Board or the Office of the Special Counsel, when requested in connection with appeals, special studies of the civil service and other merit systems, review of the FCC rules and regulations, investigations of alleged or possible prohibited personnel practices, and such other functions, e.g., as promulgated in 5 U.S.C. 1205 and 1206, or as may be authorized by law.

17. Equal Employment Opportunity Commission (EEOC)—To disclose information to the EEOC when requested in connection with investigations into alleged or possible discrimination practices in the Federal sector, compliance by Federal agencies with the Uniform Guidelines on Employee Selection Procedures or other functions vested in the Commission and to otherwise ensure compliance with the provisions of 5 U.S.C. 7201.

18. Statistical/Analytical Studies—To provide to Congress and OMB summary descriptive statistics and analytical studies in support of the financial and budgetary functions for which the records are collected and maintained, or for related FCC studies and reports. While published studies do not contain individual identifiers, in some instances the selection of elements of data included in the study may be structured in such a way as to make the data individually identifiable by inference.

19. Breach Notification—To appropriate agencies, entities, and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

20. Assistance to Federal Agencies and Entities Related to Breaches—To another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

21. Non-Federal Personnel—To disclose information to non-Federal personnel, including contractors, other vendors (e.g., identity verification services), grantees, and volunteers who have been engaged to assist the FCC in the performance of a contract, service, grant, cooperative agreement, or other activity related to this system of records and who need to have access to the records in order to perform their activity.

POLICIES AND PRACTICES FOR STORAGE OF RECORDS:

Information in this system is maintained as follows:

1. The electronic data, records, and files reside on the FCC's network or on an FCC vendor's network;

2. The DOJ maintains the Drug Debarment data at its facilities and transfers the Drug Debarment data files to the FCC under the terms of the matching agreement. These files are immediately discarded by the FCC after being loaded into the secure database on the FCC's computer network; and

3. Paper documents, including printouts and other related materials, records, and files are stored in the FO office suite and at a FCC authorized contractors.

POLICIES AND PRACTICES FOR RETRIEVAL OF RECORDS:

1. Records in the financial and budgetary (electronic and paper) system of records can be retrieved by category field, e.g., the individual's name(s), the type of transaction, call sign, processing number, SSN, ITIN, FRN, vendor code, fee control number, payment ID number, and/or sequential number.

2. Records in the DOJ Drug Debarment (electronic) system of records are retrieved and matched between CORES and that database (primarily using name and ITIN or name and zip code or additional data elements but also by address, date of birth, or other data elements obtained from the DOJ Drug Debarment database).

POLICIES AND PRACTICES FOR RETENTION AND DISPOSAL OF RECORDS:

The information in this system is maintained and disposed of in accordance with the National Archives and Records Administration (NARA) Records Schedule N1-173-00-001, Commission Registration System (CORES).

ADMINISTRATIVE, TECHNICAL, AND PHYSICAL SAFEGUARDS:

The electronic records, files, and data are stored within FCC or a vendor's accreditation boundaries and maintained in a database housed in the FCC's or vendor's computer network databases. Access to the electronic files is restricted to authorized employees and contractors; and to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), OMB, and the National Institute of Standards and Technology (NIST). Paper records (generally only Form 1876 and occasional print-outs, as needed) are stored in secured cabinets in the Financial Office.

RECORD ACCESS PROCEDURES:

Individuals wishing to request an amendment of records about them should follow the Notification Procedures below.

CONTESTING RECORD PROCEDURES:

Individuals wishing to contest information pertaining to him or her in the system of records should follow the Notification Procedures below.

NOTIFICATION PROCEDURES:

Individuals wishing to determine whether this system of records contains information about themselves may do so by writing to privacy@fcc.gov. Individuals requesting record access or amendment must also comply with the FCC's Privacy Act regulations regarding verification of identity as required under 47 CFR part 0, subpart E.

EXEMPTIONS PROMULGATED FOR THE SYSTEM:

None.

HISTORY:

81 FR 69522 (October 6, 2016).

Federal Communications Commission.
Marlene Dortch,
Secretary.

[FR Doc. 2023-25805 Filed 11-21-23; 8:45 am]

BILLING CODE 6712-01-P